DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Data Collection Tool for Rural Hospital Flexibility Grant Program: (New)

The mission of the Office of Rural Health Policy (ORHP) is to sustain and improve access to quality care services for rural communities. In its authorizing language, Congress charged ORHP with administering grants, cooperative agreements, and contracts to provide technical assistance and other activities as necessary to support activities related to improving health care in rural areas. See Section 711 of the Social Security Act [42 U.S.C. 912].

ORHP seeks to expand the information gathered from grantees on their use of the grant funds. Specifically, Rural Hospital Flexibility Grant Program (Flex) grantees would be required to report on three areas. First, Flex grantees would be required to report on the number of Critical Access Hospitals (CAHs), other eligible hospitals, Emergency Medical Service (EMS) providers, or rural health networks they have worked with during the grant period. Areas they can work with the CAHs and eligible hospitals include: Strategic Planning, Board Training, Networking, Benchmarking/Quality Reporting, EMS-Training, Medical Direction, Transfers, and Health Information Technology (HIT) Adoption. During the grant period, the grantee can sponsor meetings, seminars, workshops, and/or use other means as appropriate to engage with the hospitals on any of the above subjects or others that are not listed. The Flex grantees would report information on the total number of hospitals or other organizations that participated in any sponsored activities, as well as provide the name of the hospitals and organizations and their addresses.

In addition, ORHP seeks further information on the use of grant funds. Many Flex grantees use sub-contractual agreements to provide direct aid to CAHs, eligible hospitals, rural health networks, EMS providers or other organizations. ORHP will ask each Flex grantee to list all sub-contractual awards made during the grant period, identify the organization which received Flex funding, the amount they received, and the purpose of award. Services provided to CAHs, other hospitals or providers, EMS providers or other entities will be quantified and the value of the service provided will be submitted.

Finally, ORHP also seeks information on the EMS activities undertaken with Flex funding, such as the number of CAHs designated as Trauma Centers, the number of trained or recruited EMS medical directors, or the number of EMS recruitment/retention projects initiated. Submission may be made through the HRSA Electronic Handbook system, as part of the ORHP Performance Improvement Measurement System (PIMS).

The estimated average annual burden per year is as follows for the Annual Data Report:

Type of respondent | Number of respondents | Responses per respondent | Burden hours per response | Total burden hours
States | 45 | 1 | 12.5 | 562.5
Total | 45 |  |  | 562.5

E-mail comments to paperwork@hrsa.gov or mail the HRSA Reports Clearance Officer, Room 10-33, Parklawn Building, 5600 Fishers Lane, Rockville, MD 20857. Written comments should be received within 60 days of this notice.

Dated: June 19, 2009.
Alexandra Huttinger,
Director, Division of Policy Review and Coordination.

[FR Doc. E9-15201 Filed 6-26-09; 8:45 am]

BILLING CODE 4165-15-P